DEPARTMENT OF HEALTH AND HUMAN SERVICES

National Institutes of Health

Center for Scientific Review; Amended Notice of Meeting

Notice is hereby given of a change in the meeting of the Center for Scientific Review Special Emphasis Panel, May 27, 2010, 9:30 a.m. to May 27, 2010, 6 p.m., National Institutes of Health, 6701 Rockledge Drive, Bethesda, MD 20892 which was published in the Federal Register on April 16, 2010, 75 FR 19982-19983.

The meeting will be held June 9, 2010. The meeting time and location remain the same. The meeting is closed to the public.

Dated: April 22, 2010.
Jennifer Spaeth,
Director, Office of Federal Advisory Committee Policy.

[FR Doc. 2010-9844 Filed 4-27-10; 8:45 am]

BILLING CODE 4140-01-P